DEPARTMENT OF TRANSPORTATION

Federal Motor Carrier Safety Administration

49 CFR Part 393

[Docket No. FMCSA-2025-0122]

RIN 2126-AC96

Parts and Accessories Necessary for Safe Operation; License Plate Lamps

AGENCY: Federal Motor Carrier Safety Administration (FMCSA), Department of Transportation (DOT).

ACTION: Final rule.

SUMMARY: FMCSA amends the Federal Motor Carrier Safety Regulations (FMCSRs) to add an exception from the lamp and reflective device requirements for license plate lamps on the rear of truck tractors while towing a trailer. This amendment removes an unnecessary regulatory requirement without impacting safety.

DATES: Effective March 23, 2026.

Petitions for reconsideration of this final rule must be submitted to the FMCSA Administrator no later than March 23, 2026.

FOR FURTHER INFORMATION CONTACT: Mr. David Sutula, Chief, Vehicle and Roadside Operations Division, FMCSA, 1200 New Jersey Avenue SE, Washington, DC 20590-0001; (202) 366-2551; David.Sutula@dot.gov. If you have questions on viewing or submitting material to the docket, call Dockets Operations at (202) 366-9826.

SUPPLEMENTARY INFORMATION: FMCSA organizes this final rule as follows:

I. Availability of Rulemaking Documents

II. Abbreviations

III. Legal Basis

IV. Discussion of Proposed Rulemaking and Comments

V. International Impacts

VI. Section-by-Section Analysis

VII. Regulatory Analyses

A. E.O. 12866 (Regulatory Planning and Review) and DOT Regulatory Policies and Procedures

B. E.O. 14192 (Unleashing Prosperity Through Deregulation)

C. Congressional Review Act

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0122/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

CFR Code of Federal Regulations

CMV Commercial motor vehicle

DOT Department of Transportation

FMCSA Federal Motor Carrier Safety Administration

FMCSR Federal Motor Carrier Safety Regulations

FR Federal Register

NPRM Notice of proposed rulemaking

PIA Privacy Impact Assessment

PTA Privacy Threshold Assessment

U.S.C. United States Code

III. Legal Basis

Under 49 U.S.C. 31136(a), DOT is required to “prescribe minimum safety standards for commercial motor vehicles. At a minimum, the regulations shall ensure that—(1) commercial motor vehicles are maintained, equipped, loaded, and operated safely; (2) the responsibilities imposed on operators of commercial motor vehicles do not impair their ability to operate the vehicles safely; (3) the physical condition of operators of commercial motor vehicles is adequate to enable them to operate the vehicles safely . . . ; (4) the operation of commercial motor vehicles does not have a deleterious effect on the physical condition of the operators; and (5) an operator of a commercial motor vehicle is not coerced by a motor carrier, shipper, receiver, or transportation intermediary to operate a commercial motor vehicle in violation of a regulation promulgated under this section, or chapter 51 or chapter 313 of this title.”

This final rule is based on the authority of 49 U.S.C. 31136(a)(1) to ensure that commercial motor vehicles (CMVs) are equipped and operated safely. It does not implicate the driver-centered requirements of 49 U.S.C. 31136(a)(2)-(4). Because this final rule creates an exception to a requirement for vehicle lighting that would otherwise apply to motor carriers, there is no obvious risk of coercion related to this rule to which a driver might be subjected.

In addition, the Administrator of FMCSA is delegated authority under 49 CFR 1.87 to carry out the functions vested in the Secretary of Transportation by 49 U.S.C. chapters 311, 313, and 315 as they relate to CMV operators, programs, and safety.

For the reasons explained below, FMCSA believes that allowing an additional exception to the requirement for rear license plate lamps in Footnote 11 to Table 1 of 49 CFR 393.11 will not adversely affect CMV safety.

IV. Discussion of Proposed Rulemaking and Comments

A. Proposed Rulemaking

On May 30, 2025, FMCSA published in the Federal Register (Docket No. FMCSA-2025-0122, 90 FR 22930) a notice of proposed rulemaking (NPRM) titled “Parts and Accessories Necessary for Safe Operation; License Plate Lamps.” The NPRM proposed to amend the FMCSRs to add an exception from the lamp and reflective device requirements for license plate lamps on the rear of truck tractors while towing a trailer.

B. Comments and Responses

FMCSA solicited comments concerning the NPRM for 60 days ending July 29, 2025. By that date, two comments were received from the following parties: the American Trucking Associations and the Owner-Operator Independent Drivers Association. Both comments supported the NPRM.

V. International Impacts

Motor carriers and drivers are subject to the laws and regulations of the countries where they operate, unless an international agreement states otherwise. Drivers and carriers should be aware of the regulatory differences between nations.

VI. Section-by-Section Analysis

This section-by-section analysis describes the changes to the regulatory text in numerical order.

Section 393.11 Lamps and Reflective Devices

FMCSA revises footnote 11 to Table 1 by adding truck tractors towing a trailer to the exception from the requirement for a rear license plate lamp to be illuminated.

VII. Regulatory Analyses

A. Executive Order (E.O.) 12866 (Regulatory Planning and Review) and DOT Regulatory Policies and Procedures

FMCSA has considered the impact of this final rule under E.O. 12866 (58 FR 51735, Oct. 4, 1993) and DOT Order 2100.6B.¹ The Office of Information and Regulatory Affairs within the Office of Management and Budget (OMB) determined that this final rulemaking is not a significant regulatory action under section 3(f) of E.O. 12866 and has not reviewed it under that E.O.

¹ DOT Order 2100.6B is available at https://www.transportation.gov/regulations/dot-order-21006b-policies-and-procedures-rulemakings.

This final rule adds an exception from the lamp and reflective device requirements for license plate lamps on the rear of truck tractors while towing a trailer. Consequently, truck tractor owners will realize cost savings by no longer needing to maintain rear license plates with functional lamps when towing a trailer. FMCSA does not have information to estimate the cost savings for the owners of trucks who will no longer replace bulbs for license plate lamps on the rear of their truck tractors while towing a vehicle. FMCSA believes the cost savings and the number of affected entities will be minimal as some of these truck tractors will likely operate without a trailer in some instances, meaning that the owners will opt to have the rear license plate lamps fitted with functional bulbs to preserve the flexibility to operate without a trailer.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ²

² Executive Office of the President, Executive Order 14192 of January 31, 2025, Unleashing Prosperity Through Deregulation, 90 FR 9065-9067, Feb. 6, 2025.

Implementation guidance for E.O. 14192 issued by the OMB (Memorandum M-25-20, March 26, 2025) defines two different types of E.O. 14192 actions: an E.O. 14192 deregulatory action, and an E.O. 14192 regulatory action.³

³ Office of Management and Budget, Guidance Implementing Section 3 of Executive Order 14192, Titled “Unleashing Prosperity Through Deregulation,” Memorandum M-25-20 (Mar. 26, 2025).

An E.O. 14192 deregulatory action is defined as “an action that has been finalized and has total costs less than zero.” This final rulemaking will have total costs less than zero, and therefore is considered an E.O. 14192 deregulatory action. The cost savings of this final rule could not be quantified.

C. Congressional Review Act

This rule is not a major rule as defined under the Congressional Review Act (5 U.S.C. 801-808).” ⁴

⁴ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857 (Mar. 29, 1996).

No regulatory flexibility analysis is required, however, if the head of an agency or an appropriate designee certifies that the rule will not have a significant economic impact on a substantial number of small entities. This final rule adds an exception from the lamp requirements for license plate lamps on the rear of truck tractors while towing a trailer. This will result in minimal cost savings for owners of trucks who would have otherwise retrofitted their truck tractors with rear license plate lamp when towing a trailer. As some truck tractors will be operated with and without a trailer in certain instances, FMCSA believes the number of affected entities will be minimal as the owners of these trucks will likely continue to maintain and install rear license plate lamps.

Consequently, I certify that this action will not have a significant economic impact on a substantial number of small entities.

E. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If the final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this final rule will not result in such an expenditure, a written statement is not required.

G. Paperwork Reduction Act

This final rule contains no new information collection requirements under the Paperwork Reduction Act of 1995 (44 U.S.C. 3501-3520).

H. E.O. 13132 (Federalism)

A rule has implications for federalism under section 1(a) of E.O. 13132 if it has “substantial direct effects on the States, on the relationship between the national government and the States, or on the distribution of power and responsibilities among the various levels of government.”

FMCSA has determined that this rule will not have substantial direct costs on or for States, nor will it limit the policymaking discretion of States. Nothing in this document preempts any State law or regulation. Therefore, this rule does not have sufficient federalism implications to warrant the preparation of a Federalism Impact Statement.

I. Privacy

The Consolidated Appropriations Act, 2005,⁶ requires the Agency to assess the privacy impact of a regulation that will affect the privacy of individuals. This final rule will not require the collection of personally identifiable information.

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a Privacy Impact Assessment (PIA) for new or substantially changed technology that collects, maintains, or disseminates information in an identifiable form. No new or substantially changed technology will collect, maintain, or disseminate information as a result of this rule. Accordingly, FMCSA has not conducted a PIA.

⁷ Public Law 107-347, sec. 208, 116 Stat. 2899, 2921 (Dec. 17, 2002).

In addition, the Agency will complete a Privacy Threshold Assessment (PTA) to evaluate the risks and effects the final rule might have on collecting, storing, and sharing personally identifiable information. The PTA will be submitted to FMCSA's Privacy Officer for review and preliminary adjudication and to DOT's Privacy Officer for review and final adjudication.

J. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this rule pursuant to the National Environmental Policy Act of 1969 (42 U.S.C. 4321 et seq.). The Agency believes this final rule will not have a reasonably foreseeable significant effect on the quality of the human environment. This action falls under a published categorical exclusion and is thus excluded from further analysis and documentation in an environmental assessment or environmental impact statement under DOT Order 5610.1D,⁸ Subpart B, subsection (e). Specifically, paragraph (6) (bb), which covers regulations pertaining to vehicle operation safety standards, equipment approval, and/or equipment carriage requirements.

⁸ Available at: https://www.transportation.gov/mission/dots-procedures-considering-environmental-impacts.

List of Subjects in 49 CFR Part 393

Highway safety, Motor carriers, Motor vehicle safety.

Accordingly, FMCSA amends 49 CFR part 393 as follows:

PART 393—PARTS AND ACCESSORIES NECESSARY FOR SAFE OPERATION

1. The authority citation for part 393 continues to read as follows:

Authority: 49 U.S.C. 31136, 31151, 31502; sec. 1041(b), Pub. L. 102-240, 105 Stat. 1914, 1993; secs. 5301 and 5524, Pub. L. 114-94, 129 Stat. 1312, 1543, 1560; and 49 CFR 1.87.

2. Amend section 393.11 by revising footnote 11 in table 1 to read as follows:

§ 393.11 Lamps and reflective devices.

* * * * *

Table 1 of § 393.11—Required Lamps and Reflectors on Commercial Motor Vehicles
Item on the vehicle | Quantity | Color | Location | Position | Height above the road surface in millimeters (mm) (with English units in parenthesis) measured from the center of the lamp at curb weight | Vehicles for which the devices are required
* * * * * * *
Tail lamps. See footnotes #5 and 11 | 2 | Red | Rear | One lamp on each side of the vertical centerline at the same height and as far apart as practicable | Both on the same level between 381 mm (15 inches) and 1,829 mm (72 inches) | A, B, C, D, E, F, G, H.
* * * * * * *
License plate lamp (rear). See footnote #11 | 1 | White | At rear license plate to illuminate the plate from the top or sides |  | No requirements | A, B, C, D, F, G.
* * * * * * *
* * * * * * *
Footnote—5 Each converter dolly, when towed singly by another vehicle and not as part of a full trailer, shall be equipped with one stop lamp, one tail lamp, and two reflectors (one on each side of the vertical centerline, as far apart as practicable) on the rear. Each converter dolly shall be equipped with rear turn signals and vehicular hazard warning signal flasher lamps when towed singly by another vehicle and not as part of a full trailer, if the converter dolly obscures the turn signals at the rear of the towing vehicle.
* * * * * * *
Footnote—11 To be illuminated when headlamps are illuminated. No rear license plate lamp is required on vehicles that do not display a rear license plate or on the rear of truck tractors while towing a trailer.

* * * * *

Issued under authority delegated in 49 CFR 1.87.
Derek Barrs,
Administrator.

[FR Doc. 2026-03259 Filed 2-18-26; 8:45 am]

BILLING CODE 4910-EX-P